DEPARTMENT OF ENERGY

Federal Energy Regulatory Commission

Combined Notice of Filings #2

Take notice that the Commission received the following electric rate filings:

Docket Numbers: ER11-3539-001.

Applicants: Entergy Arkansas, Inc.

Description: Entergy Arkansas, Inc. submits tariff filing per 35: Cleco. NITSA Cmpl to be effective 5/1/2011.

Filed Date: 4/26/12.

Accession Number: 20120426-5214.

Comments Due: 5 p.m. ET 5/17/12.

Docket Numbers: ER12-1383-001.

Applicants: Diamond State Generation Partners, LLC.

Description: Amendment to Market-Based Rate Application to be effective 3/29/2012.

Filed Date: 4/23/12.

Accession Number: 20120423-5085.

Comments Due: 5 p.m. ET 5/14/12.

Docket Numbers: ER12-1613-000.

Applicants: Hill Energy Resource & Services, LLC.

Description: Hill Energy Resource & Services, LLC submits tariff filing per 35.12: Hill Energy Resource & Services, LLC Electric Tariff Original Volume No 1 to be effective 5/1/2012.

Filed Date: 4/26/12.

Accession Number: 20120426-5002.

Comments Due: 5 p.m. ET 5/17/12.

Docket Numbers: ER12-1614-000.

Applicants: Tampa Electric Company.

Description: Tampa Electric Company submits tariff filing per 35.13(a)(2)(iii: Emergency Interchange Service Schedule A&B—2012 (Bundled) to be effective 5/1/2012.

Filed Date: 4/26/12.

Accession Number: 20120426-5066.

Comments Due: 5 p.m. ET 5/17/12.

Docket Numbers: ER12-1615-000.

Applicants: Tampa Electric Company.

Description: Tampa Electric Company submits tariff filing per 35.13(a)(2)(iii: Emergency Interchange Service Contract with Southern Company—2012 (Unbundled) to be effective 5/1/2012.

Filed Date: 4/26/12.

Accession Number: 20120426-5067.

Comments Due: 5 p.m. ET 5/17/12.

Docket Numbers: ER12-1616-000.

Applicants: Tampa Electric Company.

Description: Tampa Electric Company submits tariff filing per 35.13(a)(2)(iii: QF Transmission Agreement with Auburndale Pwr Partners—2012 to be effective 5/1/2012.

Filed Date: 4/26/12.

Accession Number: 20120426-5068.

Comments Due: 5 p.m. ET 5/17/12.

Docket Numbers: ER12-1617-000.

Applicants: Duke Energy Carolinas, LLC.

Description: Duke Energy Carolinas, LLC submits tariff filing per 35.13(a)(2)(iii: Amendment to Credit—PMPA NITSA to be effective 8/1/2011.

Filed Date: 4/26/12.

Accession Number: 20120426-5098.

Comments Due: 5 p.m. ET 5/17/12.

Docket Numbers: ER12-1618-000.

Applicants: PJM Interconnection, LLC.

Description: PJM Interconnection, LLC submits tariff filing per 35.13(a)(2)(iii: Original Service Agreement No. 3276; Queue No. X1-012 to be effective 4/2/2012.

Filed Date: 4/26/12.

Accession Number: 20120426-5110.

Comments Due: 5 p.m. ET 5/17/12.

Docket Numbers: ER12-1619-000.

Applicants: PJM Interconnection, LLC.

Description: PJM Interconnection, LLC submits tariff filing per 35.13(a)(2)(iii: Original Service Agreement No. 3277; Queue No. W3-146 to be effective 4/2/2012.

Filed Date: 4/26/12.

Accession Number: 20120426-5124.

Comments Due: 5 p.m. ET 5/17/12.

Docket Numbers: ER12-1620-000.

Applicants: PJM Interconnection, LLC.

Description: PJM Interconnection, LLC submits tariff filing per 35.13(a)(2)(iii: Original Service Agreement No. 3275; Queue No. W3-078 to be effective 4/2/2012.

Filed Date: 4/26/12.

Accession Number: 20120426-5127.

Comments Due: 5 p.m. ET 5/17/12.

Docket Numbers: ER12-1621-000.

Applicants: Nevada Power Company.

Description: Nevada Power Company Rate Schedule No. 109 ORNI 16 Carson Lake RPPA Cancellation.

Filed Date: 4/26/12.

Accession Number: 20120426-5130.

Comments Due: 5 p.m. ET 5/17/12.

Docket Numbers: ER12-1622-000.

Applicants: Nevada Power Company.

Description: Nevada Power Company Rate Schedule No. 112 Carson Lake Basin RPPA Cancellation.

Filed Date: 4/26/12.

Accession Number: 20120426-5131.

Comments Due: 5 p.m. ET 5/17/12.

Docket Numbers: ER12-1623-000.

Applicants: Nevada Power Company.

Description: Nevada Power Company Rate Schedule No. 113 ORNI 20 Grass Valley RPPA Cancellation.

Filed Date: 4/26/12.

Accession Number: 20120426-5142.

Comments Due: 5 p.m. ET 5/17/12.

Docket Numbers: ER12-1624-000.

Applicants: New York Independent System Operator, Inc., Consolidated Edison Company of New York, Inc.

Description: New York Independent System Operator, Inc. submits tariff filing per 35.13(a)(2)(iii: Agreement No. 1873 between New York Power Authority and Consolidated Edison to be effective 5/1/2012.

Filed Date: 4/26/12.

Accession Number: 20120426-5180.

Comments Due: 5 p.m. ET 5/17/12.

Docket Numbers: ER12-1625-000.

Applicants: Ingenco Wholesale Power, LLC.

Description: Ingenco Wholesale Power, LLC submits tariff filing per 35.13(a)(2)(iii: Notice of Change in Status to be effective 3/29/2012.

Filed Date: 4/26/12.

Accession Number: 20120426-5190.

Comments Due: 5 p.m. ET 5/17/12.

Take notice that the Commission received the following land acquisition reports:

Docket Numbers: LA12-1-000.

Applicants: Macho Springs Power I, LLC.

Description: Site Control Report for Q1 2012 of Macho Springs Power I, LLC.

Filed Date: 4/26/12.

Accession Number: 20120426-5219.

Comments Due: 5 p.m. ET 5/17/12.

Docket Numbers: LA12-1-000.

Applicants: East Coast Power Linden Holding, LLC, Cogen Technologies Linden Venture, L.P., Fox Energy Company, LLC, Birchwood Power Partners, L.P., Shady Hills Power Company, LLC, EFS Parlin Holdings, LLC, and Inland Empire Energy Center, LLC.

Description: The GE Companies submitting report updating the list of sites for New Generation.

Filed Date: 4/26/12.

Accession Number: 20120426-5220.

Comments Due: 5 p.m. ET 5/17/12.

Take notice that the Commission received the following public utility holding company filings:

Docket Numbers: PH12-12-000.

Applicants: Energy Transfer Equity, L.P.

Description: FERC-65A Exemption of Energy Transfer Equity, L.P.

Filed Date: 4/25/12.

Accession Number: 20120425-5278.

Comments Due: 5 p.m. ET 5/16/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2012.
Nathaniel J. Davis, Sr.,
Deputy Secretary.

[FR Doc. 2012-10974 Filed 5-7-12; 8:45 am]

BILLING CODE 6717-01-P